DEPARTMENT OF HOUSING AND URBAN DEVELOPMENT

[Docket No. FR-7070-N-38; OMB No.: 2577-0075]

30-Day Notice of Proposed Information Collection: Public Housing Inventory Removals Application, General Depository Agreement, and Notification of Public Housing Closeout or Future Development

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment. Information collections from PHAs assure compliance with all Federal program requirements.

DATES: Comments Due Date: August 10, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 7th Street SW, Room 8210, Washington, DC 20410; email Colette Pollard at Colette.Pollard@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on April 17, 2023 at 88 FR 23452.

A. Overview of Information Collection

Title of Information Collection: Public Housing Inventory Removal Application, General Depository Agreement, and Notification of Future Public Housing Development.

OMB Approval Number: 2577-0075.

Type of Request: Revision of a currently approved collection.

Form Number: HUD-51999; HUD 52860, HUD 52860-A, HUD 52860-B, HUD 52860-C; HUD 52860-D; HUD 52860-E, HUD 52860-F, HUD-52860-G, and HUD-5837.

Description of the need for the information and proposed use: This collection covers the paperwork and HUD 52860 form requirements that PHAs must use when they request HUD approval to remove public housing real property (including units) from their public housing program through the following sections of the United States Housing Act of 1937 Section 18 (demolition/disposition), Section 22 (voluntary conversion), Section 33 (required conversion) and Section 32 (homeownership conveyance) as well as through settlement agreements in lieu of court proceedings for proposed eminent domain takings of public housing property and retention requirements under 2 CFR 200.311. Note that HUD approval of a removal action does not automatically or necessarily result in actual removal; rather, the PHA must complete the actual removal and comply with the applicable HUD reporting requirements to document the actual removal.

The collection is a renewal and is also a request to change the collection name to: Public Housing Inventory Removals Application, General Depository Agreement, and Notification of Public Housing Closeout or Future Development from: Public Housing Annual Contributions Contract and Inventory Removal Application

This collection covers the paperwork and HUD-51999 (General Depository Agreement) (GDA) form that PHAs must use when they receive restricted funds and program income, by requiring such funds to be deposited into interest-bearing accounts at financial institutions whose deposits or accounts are insured by the Federal Deposit Insurance Corporation (FDIC) or the National Credit Union Share Insurance Fund (NCUSIF) and if the insurance limits are exceeded, then to be fully and continuously collateralized with HUD approved investments.

This collection covers the paperwork and HUD-5837 (Notification of Future Development) form information that PHAs must provide when they are submitting applications that remove all their public housing units about their plans for potential new public housing development or closeout of their public housing program. The HUD-5837 is used by HUD to monitor the federal public housing inventory and PHA status as an entity with which HUD has a valid and ongoing Annual Contributions Contract (ACC).

The revision of this collection does two things.

First, it removes the following three forms from this collection:

• Annual Contributions Contract (ACC) (HUD-53012).

• Declaration of Trust/Declaration of Restrictive Covenants (DOT/DORC) (HUD-52190). This form is included in OMB Collection 2577-0275.

• Capital Fund Program (CFP) Amendment to the Annual Contributions Contract (ACC) Office of Public and Indian Housing (HUD-52840-A). This form is being included in its own collection.

Second, it makes formatting, instructional and other changes to the remaining forms to provide clearer direction and to ensure PHAs are fully complying with all applicable statutory and regulatory requirements.

Respondents: Public housing agencies.

| HUD-form | Number of responses | Number of responses per response | Total annual responses | Hours per response | Total burden hours | Cost per hour | Total cost
1 | Submit Notification of Future Development via HUD-5837 | 19 | 1 | 19 | 2 | 38 | $44.56 | $1,693.28
2 | Submit General Depository Agreement (GDA) via form HUD 51999 | 2,770 | 1 | 2,770 | 1 | 2,770 | 44.56 | 123,431.20
3 | Removal of public housing property from ACC through demolition and/or disposition, including de minimis, via (Section 18) via HUD form 52860, HUD-52860-A, and HUD-52860-B | 200 | 1 | 200 | 10 | 2,000 | 47.26 | 94,520
4 | Removal of public housing property from ACC through voluntary conversion (Section 22) via HUD form 52860 and HUD-52860-E | 12 | 1 | 12 | 10 | 120 | 47.26 | 5,671.20
5 | Removal of public housing property from ACC through required conversion (Section 33) via HUD form 52860 and HUD-52860-D | 0 | 1 | 0 | 0 | 0 | 47.26 | 0
6 | Removal of public housing property through homeownership (Section 32) via HUD Form 52860 and HUD-52860-C | 3 | 1 | 3 | 10 | 30 | 47.26 | 1,417.80
7 | Removal of public housing property from ACC through eminent domain HUD form 52860) and HUD-52860-F | 1 | 1 | 1 | 10 | 10 | 47.26 | 470.26
8 | Removal of public housing property from ACC through retention actions under 2 CFR 200.311 via HUD form 52860 and HUD-52860-G | 2 | 1 | 2 | 10 | 20 | 47.26 | 945.20
| Totals | 3,007 | 1 | 3007 | 1.66 | 4,988 |  | 235,732.88

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology

(5) ways to minimize the burden of the collection of information on those who are to respond, including the use of automated collection techniques or other forms of information technology.

HUD encourages interested parties to submit comment in response to these questions.

C. Authority

Section 3507 of the Paperwork Reduction Act of 1995, 44 U.S.C. Chapter 35.

Colette Pollard,
Department Reports Management Officer, Office of Policy Development and Research, Chief Data Officer.

[FR Doc. 2023-14558 Filed 7-10-23; 8:45 am]

BILLING CODE P